FEDERAL COMMUNICATIONS COMMISSION

47 CFR Part 64

[WC Docket No. 12-375, FCC 21-60; FR ID 70815]

Rates for Interstate Inmate Calling Services

AGENCY: Federal Communications Commission.

ACTION: Final rule; announcement of effective date.

SUMMARY: In this document, the Federal Communications Commission (Commission) announces that the Office of Management and Budget (OMB) has approved, for a period of three years, an information collection associated with the Commission's 2021 Inmate Calling Services (ICS) Order, FCC 21-60, in which the Commission, among other actions, expanded its consumer disclosure requirements and added new requirements for providers of calling services for incarcerated people (calling services) that seek waiver of the Commission's interstate and international rate caps. The Commission also required that calling services providers separately disclose, in connection with international calling services rates, the rate component for terminating calls to each country where that provider terminates international calls. This document is consistent with the 2021 ICS Order, which stated that the Commission would publish a document in the Federal Register announcing the effective date of these rules.

DATES: The amendments to 47 CFR 64.6110 and the addition of 47 CFR 64.6120, published July 28, 2021 (86 FR 40682), and delayed indefinitely, are effective on February 11, 2022. This rule is effective February 11, 2022.

FOR FURTHER INFORMATION CONTACT: Erik Raven-Hansen, Pricing Policy Division, Wireline Competition Bureau, (202) 418-1532, or email erik.raven-hansen@fcc.gov.@fcc.gov.

SUPPLEMENTARY INFORMATION: This document announces that, on January 24, 2022, OMB approved, for a period of three years, the information collection requirements relating to §§ 64.6110 and 64.6120 of the Commission's rules, as contained in the Commission's 2021 ICS Order, FCC 21-60, published at 86 FR 40682 on July 28, 2021. The OMB Control Number is 3060-1222. The Commission publishes this document as an announcement of the effective date of the rules.

In the 2021 ICS Order, the Commission directed that § 64.6110 be revised and § 64.6120 be added to reflect OMB's approval once that approval was received. We therefore revise §§ 64.6110 and 64.6120, previously published at 86 FR 40682, and delayed indefinitely, to remove §§ 64.6110(d) and 64.6120(d), both of which state that providers would be required to comply with the information requirements immediately upon publication by the Commission of a document in the Federal Register announcing OMB approval.

If you have any comments on the burden estimates listed below, or how the Commission can improve the collections and reduce any burdens caused thereby, please contact Nicole Ongele, Federal Communications Commission, 45 L Street NE, Washington, DC 20002. Please include the OMB Control Number, 3060-1222, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on January 24, 2022 for the information collection requirements contained in the Commission's modifications to the Commission's rules in 47 CFR part 64. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1222.

The foregoing notification is required by the Paperwork Reduction Act of 1995, Public Law 104-13, October 1, 1995, and 44 U.S.C. 3507.

The total annual reporting burdens and costs for the respondents are as follows:

OMB Control Number: 3060-1222.

OMB Approval Date: January 24, 2022.

Expiration Date: January 31, 2025.

Title: Inmate Calling Services (ICS) Provider Annual Reporting, Certification, Consumer Disclosure, and Waiver Request Requirements, WC Docket No. 12-375, FCC 21-60.

Form Numbers: FCC Form 2301(a) and FCC Form 2301(b).

Respondents: Business or other for profit.

Number of Respondents and Responses: 20 respondents; 23 responses.

Estimated Time per Response: 5 hours-80 hours.

Frequency of Response: Annual reporting; on occasion; and third party disclosure requirements.

Total Annual Burden: 2,940 hours.

Total Annual Cost: No Cost.

Obligation to Respond: Required to obtain or retain benefits. Statutory authority for this information collection is contained in sections 1, 4(i)-(j), 201(b), 218, 220, 225, 255, 276, 403, and 617 of the Communications Act of 1934, as amended, 47 U.S.C. 151, 154(i)-(j), 201(b), 218, 220, 225, 255, 276, 403, and 617.

Privacy Act Impact Assessment: No Impact(s).

Nature and Extent of Confidentiality: The Commission anticipates treating as presumptively confidential any particular information identified as proprietary by calling services providers.

Needs and Uses: Section 201 of the Communications Act of 1934, as amended (Act), 47 U.S.C. 201, requires that calling services providers' interstate and international rates and practices be just and reasonable. Section 276 of the Act, 47 U.S.C. 276, requires that payphone service providers (including calling services providers) be fairly compensated for completed calls.

On May 24, 2021, the Commission released the Third Report and Order (86 FR 40682, July 28, 2021), Order on Reconsideration (86 FR 40340, July 28, 2021), and Fifth Further Notice of Proposed Rulemaking (86 FR 40416, July 28, 2021), WC Docket No. 12-375, FCC 21-60 (2021 ICS Order), in which it continued its reform of the calling services marketplace. In that Order, the Commission, among other actions, expanded its consumer disclosure requirements and added new requirements for calling services providers seeking waiver of the Commission's interstate and international rate caps. The Commission also required, in connection with international calling services rates, that providers must separately disclose the rate component for terminating calls to each country where that provider terminates international calls.

Federal Communications Commission.
Marlene Dortch,
Secretary, Office of the Secretary.

For the reasons set forth in the preamble, the Federal Communications Commission amends part 64 of title 47 of the Code of Federal Regulations as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

§ 64.6110 [Amended]

2. In § 64.6110, remove paragraph (d).

§ 64.6120 [Amended]

3. In § 64.6120, remove paragraph (d).

[FR Doc. 2022-02897 Filed 2-10-22; 8:45 am]

BILLING CODE 6712-01-P